FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
003402F | Customs Services International, Inc. 7425 NW., 48th Street, Miami, FL 33166 | February 19, 2004.
016597N | First Forward International Services, Inc. dba First Forward Container Line, 5745 Arbor Vitae Street, Los Angeles, CA 90045 | January 12, 2004.
017064F | International Transport Solutions, Inc., 310 Paterson Plank Road, Carlstadt, NJ 07072 | December 8, 2003.
016126N | Motorvation Services Inc., 100 Broad Street, Tonawanda, NY 14151 | March 6, 2004.
013266N | Trans—Aero—Mar, Inc., 1203 NW., 93rd Court, Miami, FL 33172 | January 19, 2004.
9862N | United Transport Tankcontainers, Inc., 1225 North Loop West, Suite 1110, Houston, TX 77008 | August 6, 2003.

Sandra L. Kusumoto,
Director, Bureau of Consumer Complaints and Licensing.

[FR Doc. 04-9024 Filed 4-20-04; 8:45 am]

BILLING CODE 6730-01-P